DEPARTMENT OF HOUSING AND URBAN DEVELOPMENT

[Docket No. FR-4723-FA-04]

Announcement of Funding Awards for Fiscal Year 2002 Historically Black Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2002 Historically Black Colleges and Universities Program. The purpose of this document is to announce the names, addresses and the amount awarded to the winners to be used to help Historically Black Colleges and Universities (HBCUs) expand their role and effectiveness in addressing community development needs in their localities, consistent with the purposes of HUD's Community Development Block Grant program (CDBG).

FOR FURTHER INFORMATION CONTACT: Susan Brunson, Office of University Partnerships, U.S. Department of Housing and Urban Development, Room 8106, 451 Seventh Street, SW., Washington, DC 20410, telephone (202) 708-3061, ext. 3852. To provide service for persons who are hearing-or-speech-impaired, this number may be reached via TTY by Dialing the Federal Information Relay Service on 800-877-8339 or 202-708-1455. (Telephone number, other than “800” TTY numbers are not toll free.)

SUPPLEMENTARY INFORMATION: The Historically Black Colleges and Universities Program was enacted under section 107 of the CDBG appropriation for fiscal year 2002, as part of the “Veterans Administration, HUD and Independent Agencies Appropriations Act of 2002” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG-eligible activities including housing rehabilitation and financing, property demolition or acquisition, public facilities, economic development, business entrepreneurship, and fair housing programs.

The Catalog Federal Domestic Assistance number for this program is 14.237.

On March 26, 2002 (67 FR 13949), HUD published a Notice of Funding Availability (NOFA) announcing the availability of $10.5 million in Fiscal Year 2002 funds for the HBCU Program. The Department reviewed, evaluated, and scored the applications received based on the criteria in the NOFA. As a result, HUD has funded the applications below, in accordance with section 102(a)(4)(C) of the Department of Housing and Urban Development Reform Act of 1989 (103 Stat. 1987, 42 U.S.C. 3545), the Department is publishing details concerning the recipients of funding awards, as set forth below.

List of Awardees for Grant Assistance Under the FY 2002 Historically Black Program Funding Competition, by Institution, Address, and Grant Amount

Mid-Atlantic

1. Norfolk State University, Thomas Dawes, Community and Outreach Services, Norfolk State University, 700 Park Avenue, Norfolk, VA 23504. Grant: $500,000.

2. Hampton University, Department of Architecture, Hampton University, Hampton, VA 23668. Grant: $301,505.

3. Delaware State University, Dr. John N. Austin, School of Professional Studies and Management, Delaware State University, 1200 North Dupont Highway, Dover, DE 19901. Grant: $338,766.

Southeast/Caribbean

4. C.A. Fredd Technical College Campus of Shelton Community College, Branch Campus, Dr. Cordell Wynn, C.A. Fredd Technical College Campus of Shelton Community College, 3401 Martin Luther King, Jr. Blvd., Tuscaloosa, AL 35401. Grant: $549,990.

5. Stillman College, Dr. Eddie B. Thomas, Stillman College, 3600 Tuscaloosa Blvd., Tuscaloosa, AL 35403. Grant: $524,790.

6. Benedict College, Larry Salley, Benedict College, 1600 Harden Street, Columbia, SC 29204. Grant: $500,000.

7. South Carolina State University, Charles Q. Artis, South Carolina State University, 300 College Street, NE, Orangeburg, SC 29115. Grant: $549,945.

8. LeMoyne-Owen College, Jeffrey Higgs, LeMoyne-Owen College, 802 Walker Avenue, Suite 5, Memphis, TN 38126. Grant: $549,062.

9. Fisk University, Debbie Frank, Fisk University, 1000 17th Avenue North, Nashville, TN 37208. Grant: $550,000.

10.Morehouse College, Shirley Williams, Morehouse College, 830 Westview Drive, SW, Atlanta, GA 30314. Grant: $526,414.

11. North Carolina A&T State University, Valerie Howard, Department of Construction Management and Safety, North Carolina A& T State University, 1601 East Market Street, Greensboro, NC 27411. Grant: $548,000.

12. North Carolina Central University, Tyrone Eaton, Office of Research Programs, North Carolina Central University, 1801 Fayetteville Street, Durham, NC 27707. Grant: $549,479.

13. Gadsden State Community College, Dr. Brenda Crowe, Institutional Advancement and Community Services, Gadsden State Community College, P.O. Box 227, 1001 George Wallace Drive, Gadsden, AL 35902-0227. Grant: $424,000.

14. Florida A&M University, Thomas D. Pugh, Florida A&M University, 400 Foote Hilyer, Administration Center, Tallahassee, FL 32307. Grant: $542,674.

15. Rust College, David L. Beckley, Rust College, 150 East Rust Avenue, Holly Springs, MS 38635. Grant: $550,000.

16. Alcorn State University, Brenda T. Buck, Center for Rural Life and Economic Development, Alcorn State University, 1000 ASU Drive, #210, Alcorn State, MS 39096. Grant: $497,929.

Southwest

17. Dillard University, Dr. Edwina Frank, Research and Sponsored Programs, Dillard University, 2601 Gentilly Blvd., New Orleans, LA 70122. Grant: $550,000.

18. Southern University and A&M College, Dr. Alma Thornton, Center for Social Research, Southern University and A&M College, P.O. Box 9503, S.U. Branch, Baton Rouge, LA 70813-9503. Grant: $550,000.

19. Southern University At Shreveport, Jeanette H. Williams, Southern University At Shreveport, 3050 Martin Luther King Jr. Boulevard, Shreveport, LA 71107. Grant: $322,211.

20. Jarvis Christian College, Dr. Richard Groepper, Jarvis Christian College, P.O. Box 1470, Hawkins, TX 75765. Grant: $338,274.

21. Paul Quinn College, Dwight Fennell, Paul Quinn College, 3837 Simpson Stuart Road, Dallas, TX 75241. Grant: $550,000.

22. University of Arkansas at Pine Bluff, Henry Golatt, University of Arkansas at Pine Bluff, 1200 North University Drive, Mail Slot 4943, Pine Bluff, AR 71601. Grant: $368,330.

Dated: October 23, 2002.
Harold Bunce,
Deputy Assistant Secretary for Economic Affairs.

[FR Doc. 02-28123 Filed 11-4-02; 8:45 am]

BILLING CODE 4210-62-P